Proclamation 9662 of October 13, 2017

Blind Americans Equality Day, 2017

By the President of the United States of America

A Proclamation

On Blind Americans Equality Day, we celebrate the achievements of our blind and visually impaired citizens. These individuals make meaningful contributions every day to our country, enhancing and strengthening our communities and our culture. On this day, we reflect as a Nation on how we will continue to set the global standard in ensuring that our blind and visually impaired citizens live in communities of opportunity, respect, and civic engagement. Not only do the blind and visually impaired deserve to live in such communities, but we know that when they do, our schools, businesses, and society are stronger and more vibrant.

Blind and visually impaired Americans face unique barriers and obstacles in their lives as they strive to achieve their goals and aspirations. As a Nation, we will work to eliminate those hindrances and to ensure that everyone has the opportunity to achieve the American Dream. Through technological advances, job training and educational opportunities, and the engagement of business and industry leaders, our blind and visually impaired citizens can continue to enrich our Nation with their gifts and talents and write their own stories of success.

My Administration plans to create 25 million new American jobs over the next decade that will ignite economic growth, allowing all our citizens, including millions of Americans with disabilities, to reach their full potential and enjoy greater prosperity. By Executive Order on June 15, 2017, we expanded apprenticeships, giving more Americans, including individuals with disabilities, access to relevant skills and the tools they need to secure high-paying jobs. Paid apprenticeships are critical positions in our economy, as they provide the opportunity to develop skills that meet the needs of employers and add value to the workplace. My Administration's existing and forthcoming workforce initiatives will provide increased opportunities for blind and visually impaired Americans to realize their aspirations and achieve success, inclusion, and independence.

By joint resolution approved on October 6, 1964 (Public Law 88-628, as amended), the Congress designated October 15 of each year as “White Cane Safety Day” to recognize the contributions of Americans who are blind or have impaired vision. Today, we rededicate our efforts and continue working to ensure all Americans, including those who are blind or visually impaired, have every opportunity to achieve success.

NOW, THEREFORE, I, DONALD J. TRUMP, President of the United States of America, by virtue of the authority vested in me by the Constitution and the laws of the United States, do hereby proclaim October 15, 2017, as a day to celebrate and recognize the accomplishments and contributions of blind and visually impaired Americans. I call upon all Americans to observe this day with appropriate ceremonies and activities to reaffirm our commitment to achieving equality for all Americans.

IN WITNESS WHEREOF, I have hereunto set my hand this thirteenth day of October, in the year of our Lord two thousand seventeen, and of the Independence of the United States of America the two hundred and forty-second.

[FR Doc. 2017-22938

Filed 10-19-17; 8:45 am]

Billing code 3295-F8-P